ENVIRONMENTAL PROTECTION AGENCY

[FRL-7233-2]

Agency Information Collection Activities: Proposed Collection; Comment Request; Reporting Under EPA's Climate Leaders—EPA ICR No. xx

AGENCY: Environmental Protection Agency (EPA).

ACTION: Notice.

SUMMARY: In compliance with the Paperwork Reduction Act (44 U.S.C. 3501 et seq.), this notice announces that EPA is planning to submit the following proposed Information Collection Request (ICR) to the Office of Management and Budget (OMB): Reporting Requirements Under EPA's Climate Leaders—EPA ICR No. xx. Before submitting the ICR to OMB for review and approval, EPA is soliciting comments on specific aspects of the proposed information collection as described below.

DATES: Comments must be submitted on or before August 19, 2002.

ADDRESSES: U.S. Environmental Protection Agency, Climate Protection Partnerships Division, 1200 Pennsylvania Avenue, NW., (6202J), Washington, DC 20460.

FOR FURTHER INFORMATION CONTACT: Tom Kerr, Telephone No. (202) 564-0047, Facsimile No. (202) 565-2134; E-mail: kerr.tom@epa.gov. Interested parties can obtain a copy of this ICR without charge.

SUPPLEMENTARY INFORMATION: Affected entities: Entities potentially affected by this action are corporations that voluntarily agree to work with EPA to measure and record their greenhouse gas (GHG) emissions.

Title: Reporting Requirements Under EPA's Climate Leaders—EPA ICR No. xx.

Abstract: In an effort to aid U.S. implementation of its commitments in the United Nations Framework Convention on Climate Change, the President announced a Climate Change Strategy on February 14, 2002, wherein he set a national U.S. GHG intensity goal of 18% by 2012. Part of that strategy challenges companies to set GHG reduction goals by working with EPA through the voluntary Climate Leaders program. EPA has developed this ICR to ensure that the program is credible by obtaining authorization to collect information from Climate Leaders Partners to ensure the Partners are meeting their GHG goals.

EPA has developed this ICR to obtain authorization to collect information from companies participating in Climate Leaders. Companies that join Climate Leaders voluntarily agree to the following: designating a Climate Leaders liaison; negotiating a corporate GHG reduction goal; and reporting to EPA, on an annual basis, the company's progress toward their reduction goal via Climate Leaders inventory protocol reporting forms. The information contained in the inventories of the companies that join Climate Leaders may be considered confidential business information and is maintained as such. EPA uses the data obtained from the companies to assess the success of the program in achieving its GHG reduction goals.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The projected hour burden for this collection of information is as follows:

Average annual reporting burden: 63 hours.

Average annual recordkeeping burden: 0 hours.

Average burden hours/response: 7 hours for a Letter of Intent (one-time burden); 56 hours for the annual inventory.

Frequency of response: one per respondent per year.

Estimated number of respondents: 30.

Cost burden to respondents:

Estimated total annualized cost burden: $6,163.

Total labor cost: $6,163.

Total capital and start-up costs: $0.

Estimated total operation and maintenance costs: $0.

Purchase of services cost: $0.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 6, 2002.
Thomas M. Kerr,
EPA Office of Air & Radiation.

[FR Doc. 02-15330 Filed 6-17-02; 8:45 am]

BILLING CODE 6560-50-P